DEPARTMENT OF LABOR

Employment and Training Administration

[TA-W-82,388]

Aleris Recycling Bens Run, LLC, Including On-Site Leased Workers From Winans Extras Support Staffing and CDI Corporation, Friendly, West Virginia; Notice of Affirmative Determination Regarding Application for Reconsideration

By application dated April 24, 2013, United Steelworkers, Local 5724-2, requested administrative reconsideration of the negative determination regarding workers' eligibility to apply for Trade Adjustment Assistance (TAA) applicable to workers and former workers of Aleris Recycling Bens Run, LLC, Friendly, West Virginia. The determination was issued on March 13, 2013. The workers' firm is engaged in activities related to the production of aluminum ingots, sows, cones, and salt cakes.

The initial investigation resulted in a negative determination based on the findings that imports of articles like or directly competitive with the articles produced by the workers did not increase during the relevant period; the subject firm or its major customers did not import articles like or directly competitive with the articles produced by the workers; the subject firm did not shift production of the articles produced by the workers to a foreign country, and did not acquire production of like or directly competitive articles from a foreign country; the subject firm is neither a Supplier nor Downstream Producer to a firm (or subdivision, whichever is applicable) that employed a group of workers who received a certification of eligibility under Section 222(a) of the Act, 19 U.S.C. 2272(a); and the subject firm has not been publically identified by name by the International Trade Commission as a member of a domestic industry in an investigation resulting in an affirmative finding of serious injury, market disruption, or material injury, or threat thereof.

The request for reconsideration included new information regarding the articles produced at the subject firm and possible certification as secondarily-affected workers.

The Department has carefully reviewed the request for reconsideration and the existing record, and will conduct further investigation to determine if workers have met the eligibility requirements of the Trade Act of 1974, as amended.

Conclusion

After careful review of the application, I conclude that the claim is of sufficient weight to justify reconsideration of the U.S. Department of Labor's prior decision. The application is, therefore, granted.

Signed at Washington, DC, this 8th day of May, 2013.
Del Min Amy Chen,
Certifying Officer, Office of Trade Adjustment Assistance.

[FR Doc. 2013-12382 Filed 5-23-13; 8:45 am]

BILLING CODE 4510-FN-P